DEPARTMENT OF TRANSPORTATION

Office of the Secretary

Privacy Act of 1974: System of Records

AGENCY: National Highway Traffic Safety Administration (NHTSA).

ACTION: Notice to establish a system of records.

SUMMARY: NHTSA proposes to amend a system of records under the Privacy Act of 1974.

Effective Date: October 13, 2004. If no comments are received, the proposal will become effective on the above date. If comments are received, the comments will be considered and, where adopted, the documents will be republished with changes.

ADDRESSES: Address all comments concerning this notice to Yvonne L. Coates, Privacy Officer, Department of Transportation, Office of the Secretary, 400 7th Street, SW., Washington, DC 20590, (202) 366-6964 (telephone), (202) 366-7024 (fax), Yvonne.Coates@ost.dot.gov (Internet address).

FOR FURTHER INFORMATION CONTACT: Dee Smith, Department of Transportation, NHTSA, Office of the Chief Information Officer, Suite 6100, 400 7th Street, SW., Washington, DC 20590, (202) 366-2622 (telephone), (202) 493-2080 (fax), Dee.Smith@nhtsa.dot.gov (Internet address).

SUPPLEMENTARY INFORMATION: This amendment establishes two new routine uses to allow NHTSA to: (1) Provide complaint information, including personal identifiers, to vehicle manufacturers during defect investigations; and (2) refer complaint information to appropriate State or Federal agency for actions involving matters of law or regulation beyond the responsibility of the agency or Department, such as the Federal Trade Commission in matters involving warranties.

System number:

DOT/NHTSA 415.

System name:

Artemis System/Vehicle Owner Complaint Information.

Security classification:

Sensitive, unclassified.

System location:

U.S. Department of Transportation (DOT), National Highway Traffic Safety Administration (NHTSA), Office of Defects Investigation (ODI), 400 7th Street, SW., Suite 5326, Washington, DC 20590.

Categories of individuals covered by the system:

Vehicle owners, Vehicle operators, Complainants.

Categories of records in the system:

Vehicle owner questionnaire forms (electronic and hard copy) and consumer correspondence. Information may contain names, addresses, telephone numbers, vehicle identification numbers, and vehicle complaint information.

Authority for maintenance of the system:

49 U.S.C. 30166.

Purpose(s):

To ensure that vehicle manufacturers recall and repair or replace defective or noncompliant motor vehicles or items of motor vehicle equipment and to ensure that they do so in an effective manner. To identify alleged problems and trends and to conduct investigations and determine whether recalls are necessary and ensure that recalls are conducted in accordance with agency requirements.

Routine uses of records maintained in the system, including categories of users and the purposes of such uses:

—To permit ODI to review complaints about defects in motor vehicles and items of motor vehicle equipment in order to identify trends that could result in defect investigations, and ultimately in safety-related recalls.

—To permit ODI to review complaints to identify uncorrected recall performance problems which require investigation into the adequacy of the notification or remedy in accordance with agency regulations.

—To make complaints about recall performance available to applicable manufacturers in order to allow them to rectify owner complaints and problems.

—To provide complaints to the applicable vehicle manufacturer during a defect investigation to enable the manufacturer to identify the specific complaint vehicle and to research the root cause of the alleged problem.

—To refer complaints to the appropriate State or Federal agency for actions involving matters of law or regulation beyond the responsibility of the agency or Department, such as the Federal Trade Commission in matters involving warranties.

—See Prefatory Statement of General Routine Uses.

Disclosure to consumer reporting:

None.

Policies and practices for storing, retrieving, accessing, retaining and disposing of records in the system:

Storage:

Records are stored electronically in a storage area network (SAN) that is part of the Artemis system. Any images associated with these records are also stored in the SAN. The SAN is partitioned into public and private sections.

Retrievability:

Records may be retrieved by any personal identifier associated with the vehicle owner questionnaire or other consumer correspondence.

Safeguards:

To safeguard against the risk of unauthorized access and disclosure, Artemis users must follow strict security guidelines to gain access to the system. Artemis is also equipped with an intrusion detection system and the entire Artemis database is periodically backed up onto digital storage media and stored offsite in a secure location.

Retention and disposal:

The information is retained for ten years.

System manager(s) and address:

Department of Transportation (DOT), National Highway Traffic Safety Administration (NHTSA), Office of Defects Investigation (ODI), 400 7th Street, SW., Suite 5326, Washington, DC 20590.

Notification procedure:

To determine whether the system may contain records relating to you, write to the System Manager.

Record access procedures:

Same as “Notification Procedure” above.

Individuals requesting access must include their full name in the request. Individuals requesting access must also comply with the Department of Transportation's Privacy Act regulations on verification of identity (49 CFR 10.37).

Contesting record procedures:

Same as “Notification Procedure” above.

Record source categories:

Information is collected from the general public, State highway offices, insurance companies, and vehicle manufacturers.

Exemptions claimed for the system:

None.

Dated: August 30, 2004.
Yvonne L. Coates,
Departmental Privacy Officer.

[FR Doc. 04-20169 Filed 9-2-04; 8:45 am]

BILLING CODE 4910-59-P